DEPARTMENT OF TRANSPORTATION

Office of the Secretary

[Order 2012-5-8; Docket DOT-OST-2012-0069]

Notice of Order Soliciting Community Proposals

AGENCY: Department of Transportation.

ACTION: Notice.

SUMMARY: The Department of Transportation is soliciting proposals from communities or consortia of communities interested in receiving a grant under the Small Community Air Service Development Program. The full text of the Department's order is attached to this document. There are two mandatory requirements for filing of applications, both of which must be completed for a community's application to be deemed timely and considered by the Department. The first requirement is the submission of the community's proposal, as described below; the second requirement is the filing of SF424 through http://www.grants.gov.

DATES: Grant Proposals as well as the SF424 should be submitted no later than June 11, 2012.

ADDRESSES: Interested parties can submit applications and the SF424 electronically through http://www.grants.gov. An electronic version of this document is available at www.regulations.gov.

FOR FURTHER INFORMATION CONTACT: Aloha Ley, Office of Aviation Analysis, 1200 New Jersey Ave. SE., W86-310, Washington, DC 20590, (202) 366-2347.

SUPPLEMENTARY INFORMATION:

Overview

By this order, the Department invites proposals from communities and/or consortia of communities interested in obtaining a federal grant under the Small Community Air Service Development Program (Small Community Program or SCASDP) to address air service and airfare issues in their communities. Applications of no more than 25 pages each (one-sided only, excluding the completed SF424, cover sheet, Summary Information schedule, and any letters from the community showing support for the application), including all required information, must be submitted to www.grants.gov no later than 5 p.m. EDT on Monday, June 11, 2012.

This order is organized into the following sections:

I. Background

II. Selection Criteria and Guidance on Application of Selection Criteria

III. Evaluation and Selection Process

IV. How to Apply

V. Air Service Development Zone

VI. Grant Administration

VII. Questions and Clarifications

Appendix A—Additional Information on Applying Through www.grants.gov

Appendix B—Cover Sheet Contents

Appendix C—Summary Information

Appendix D—Application Checklist

Appendix E—Confidential Commercial Information

I. Background

The Small Community Program was established by the Wendell H. Ford Aviation Investment and Reform Act for the 21st Century (Pub. L. 106-181) and reauthorized by the Vision 100-Century of Aviation Reauthorization Act (Pub. L. 108-176). The program is designed to provide financial assistance to small communities to help them enhance their air service. The Department provides this assistance in the form of monetary grants that are disbursed on a reimbursable basis. Authorization for this program is codified at 49 U.S.C. 41743.

The Small Community Program is authorized to receive appropriations under 49 U.S.C. 41743(e)(2), as amended. Appropriations are provided for this program for award in FY 2012 pursuant to the FAA Modernization and Reform Act of 2012 (Pub. L. 112-95). The Department has up to $14 million available for FY 2012 grant awards to carry out this program. There is no limit on the amount of individual awards, and the amounts awarded will vary depending upon the features and merits of the proposals selected. In past years, the Department's individual grant sizes have ranged from $20,000 to nearly $1.6 million.

A. Eligible Applicants

Eligible applicants are small communities that meet the following statutory criteria (49 U.S.C. 41743):

1. As of calendar year 1997, the airport serving the community was not larger than a small hub airport, and it has insufficient air carrier service or unreasonably high air fares; and

2. The airport serving the community presents characteristics, such as geographic diversity or unique circumstances, that demonstrate the need for, and feasibility of, grant assistance from the Small Community Program.

No more than 4 communities or consortia of communities, or a combination thereof, from the same state may be selected to participate in the program in any fiscal year. No more than 40 communities or consortia of communities, or a combination thereof, may be selected to participate in the program in each year for which the funds are appropriated.

Communities without existing air service: Communities that do not currently have commercial air service are eligible for SCASDP funds, but air service providers must have met or be able to meet in a reasonable period all Departmental requirements for air service certification, including safety and economic authorities.

Essential Air Service communities: Small communities that meet the basic SCASDP criteria and currently receive subsidized air service under the Essential Air Service (EAS) program are eligible to apply for SCASDP funds. However, grant awards to EAS-subsidized communities are limited to marketing or promotion projects that support existing or newly subsidized EAS. Grant funds will not be authorized for EAS-subsidized communities to support any new competing air service. Furthermore, no funds will be authorized to support additional flights by EAS carriers or changes to those carriers' existing schedules. These restrictions are necessary to avoid conflicts with the EAS program.

Consortium applications: Both individual communities and consortia of communities are eligible for SCASDP funds. An application from a consortium of communities must be one that seeks to facilitate the efforts of the communities working together toward one joint grant project, with one joint objective, including the establishment of one entity to ensure that the joint objective is accomplished.

Multiple Applications: Communities may file only one application for a grant, either individually or as part of a consortium.

B. Eligible Projects

The Department is authorized to award grants under 49 U.S.C. 41743 to communities that seek to provide assistance to:

• An air carrier to subsidize service to and from an underserved airport for a period not to exceed 3 years;

• An underserved airport to obtain service to and from the underserved airport; and/or

• An underserved airport to implement such other measures as the Secretary, in consultation with such airport, considers appropriate to improve air service both in terms of the cost of such service to consumers and the availability of such service, including improving air service through marketing and promotion of air service and enhanced utilization of airport facilities.

Applicants also should keep in mind the following statutory restrictions on eligible projects:

• An applicant may not receive an additional grant to support the same project from a previous grant (see Same Project Limitation, below); and

• An applicant may not receive an additional grant, prior to the completion of its previous grant (see Concurrent Grant Limitation, below).

Same Project Limitation: A community may not receive an additional grant to support the same project for which it received a previous grant. In assessing whether a previous grantee's current application represents a new project, the Department will compare the goals and objectives of the previous grant, including the key components of the means by which those goals and objectives were to be achieved, to the current application. For example, if a community received an earlier grant to support a revenue guarantee for service to a particular destination or direction, a new application by that community for another revenue guarantee for service to the same destination or in the same direction is ineligible, even if the revenue guarantee were structured differently or the type of carrier were different. However, a new application by such a previous grantee for service to a new destination or direction using a revenue guarantee, or for general marketing of the airport and the various services it offers, is eligible. We recognize that not all revenue guarantees, marketing agreements, equipment purchases, etc. are of the same nature, and that if a subsequent application incorporates different goals or significantly different components, it may be sufficiently different to constitute a new project under 49 U.S.C. 41743(c).

Concurrent Grant Limitation: A community may have only one SCASDP grant at any time. If a community applies for a subsequent SCASDP grant when its current grant has not yet expired, that community must notify the Department of its intent to terminate the current SCASDP grant prior to entering into the new grant. In addition, for consortium member applicants, permission must be granted from both the grant sponsor and the Department to withdraw from the current SCASDP grant before the consortium will be deemed eligible to receive a subsequent SCASDP grant.

II. Selection Criteria and Guidance on Application of Selection Criteria

SCASDP grants will be awarded based on the selection criteria as outlined below. There are two categories of selection criteria: Priority Selection Criteria and Secondary Selection Criteria. Applications that meet one or more of the priority selection criteria will be viewed more favorably than those that do not meet any priority selection criteria.

A. Priority Selection Criteria

The law directs the Department to give priority consideration to those communities or consortia where the following criteria are met:

• Air fares are higher than the national average air fares for all communities—DOT will compare the local community's air fares to the national average air fares for all communities. Communities with air fares significantly higher than the national average air fares for all communities will be given priority. DOT calculates these fares using the Bureau of Transportation Statistics (BTS) database. BTS Origin Destination Survey data is used to gather fare data for all markets that serve airports represented in SCASDP applications. The SCASDP air fare comparison report represents a community's (each individual applicant's) air fares as a percentage of National Averages (Fare Premium). The report compares a community's air fares to the average for all other markets in the Country that have similar density (passenger volume) and distance characteristics (market groupings). The Fare Premium calculation includes all markets that averaged more than 1 passenger a day.

• The community or consortium will provide a portion of the cost of the activity from local sources other than airport revenue sources—DOT will consider whether a community or consortium proposes local funding for the proposed project. Applications providing proportionately higher levels of cash contributions from other than airport revenues will be viewed more favorably. Applications that provide multiple levels of contributions (state, local, airport, cash and in-kind contributions) also will be viewed more favorably. See Additional Guidance—Cost Sharing and Local Contributions, in Subsection C below, for more information on the application of this selection criterion.

• The community or consortium has established or will establish a public-private partnership to facilitate air carrier service to the public—DOT will consider a community or consortium's commitment to facilitate air carrier service in the form of a public-private partnership. Applications that describe in detail how the partnership will actively participate in the implementation of the proposed project will be viewed more favorably.

• The assistance will provide material benefits to a broad segment of the traveling public, including business, educational institutions, and other enterprises, whose access to the national air transportation system is limited—DOT will consider whether the proposed project would provide, to a broad segment of the community's traveling public, important benefits relevant to the community, for example: Service that would offer new or additional access to a connecting hub airport, service that would provide convenient travel times for both business and leisure travelers that would help obviate the need to drive long distances, or service that would offer lower fares.

• The assistance will be used in a timely manner—DOT will consider whether a proposed project provides a well-defined plan and reasonable timetable for use of the grant funds. In DOT's experience, a reasonable timetable for use of grant funds includes a year to complete studies, two years for marketing and promotion of the airport, community, carrier, or destination, and three years for projects that target a revenue guarantee, subsidy, or other financial incentives. Applicants should describe how their projects can be accomplished within a reasonable time period.

• Multiple communities cooperate to submit a regional or multistate application to consolidate air service into one regional airport—DOT will consider whether a proposed project involves a consortium effort to consolidate air service into one regional airport. This is a new statutory priority criterion, added pursuant to Section 429 of the FAA Modernization and Reform Act of 2012 (Pub. L. 112-95).

B. Secondary Selection Criteria

1. Innovation—DOT will consider whether an application proposes new and creative solutions to the transportation issues facing the community, including:

• The extent to which the applicant's proposed solution(s) to solving the problem(s) is new or innovative, including whether the proposed project utilizes or encourages intermodal or regional solutions to connect passengers to the community's air service (i.e., cost-effective inter/intra city passenger bus service, marketing of intermodal surface transportation options also available to air travelers, or projects that have a positive impact on travel and tourism); whether the proposed project, if successfully implemented, could serve as a working model for other communities; and

• Whether the proposed project clearly addresses the applicant's stated problems.

2. Participation—DOT will consider whether an application has broad community participation, including:

• Whether the proposed project has broad community support; and

• The community's demonstrated commitment to and participation in the proposed project.

3. Location—DOT will consider the location and characteristics of a community:

• The geographic location of each applicant, including the community's proximity to larger centers of air service and low-fare service alternatives;

• The population and business activity, as well as the relative size of each community; and

• Whether the community's proximity to an existing or prior grant recipient could adversely affect either its proposal or the project undertaken by the other recipient.

4. Other Factors—DOT will also consider:

• The community's existing level of air service and whether that service has been increasing or decreasing;

• Whether the applicant has a plan to provide any necessary continued financial support for the proposed project after the requested grant award expires;

• The grant amount requested compared with total funds available for all communities;

• The proposed federal grant amount requested compared with the local share offered;

• Any letters of intent from airline planning departments or intermodal surface transportation providers on behalf of applications that are specifically intended to enlist new or expanded air service or surface transportation service in support of the air service in the community;

• Whether the applicant has plans to continue with the proposed project if it is not self-sustaining after the grant award expires; and

• Equitable and geographic distribution of available funds.

C. Additional Guidance

Market Analysis: Applicants requesting funds for a revenue guarantee/subsidy/financial incentive are encouraged to conduct and reference in their applications an in-depth analysis of their target markets. Target markets can be destination specific (e.g. service to LAX), a geographic region (e.g. northwest mountain region) or directional (e.g. hub in the southeastern United States).

Complementary Marketing Commitment: Applicants requesting funds for a revenue guarantee/subsidy/financial incentive are encouraged to designate in their applications a portion of the project funds (federal, local or in-kind) for the development and implementation of a marketing plan in support of the service sought.

Subsidies for a carrier to compete against an incumbent: The Department is reluctant to subsidize one carrier but not others in a competitive market. For this reason, communities that propose to use the grant funds for service in a city-pair market that is already served by a carrier must explain in detail why the existing service is insufficient or unsatisfactory, or provide other compelling information to support such proposals.

Cost Sharing and Local Contributions: Applications must clearly identify the level of federal funding sought for the proposed project. Applications must also identify the community's cash contributions to the proposed project, in-kind contributions from the airport, and in-kind contributions from the community. Cash contributions from airport revenues must be identified separately from cash contributions from other community sources, and cash contributions from the state and/or local government should be separately identified and described.

Types of contributions. Contributions should represent a new financial commitment or new financial resources devoted to attracting new or improved service, or addressing specific high-fare or other service issues, such as improving patronage of existing service at the airport. For those communities that propose to contribute to the grant project, that contribution can be in the following forms:

Cash from non-airport revenues. A cash contribution can include funds from the state, the county or the local government, and/or from local businesses, or other private organizations in the community. Contributions that are comprised of intangible non-cash items, such as the value of donated advertising, are considered in-kind contributions (see further discussion below).

Cash from airport revenues. This includes contributions from funds generated by airport operations. Airport revenues may not be used for revenue guarantees to airlines, per 49 U.S.C. 47107, 47133. Applications that include local contributions based on airport revenues do not receive priority consideration for selection.

In-kind contributions from the airport. This can include such items as waivers of landing fees, terminal rents, fuel fees, and/or vehicle parking fees.

In-kind contributions from the community. This can include such items as donated advertising from media outlets, catering services for inaugural events, or in-kind trading, such as advertising in exchange for free air travel. Travel banks and travel commitments/pledges are considered to be in-kind contributions,¹ as are reduced fares offered by airlines.

¹ A travel bank involves the actual deposit of funds from participating parties (e.g., businesses, individuals) into a designated bank account for purchasing air travel on the selected airline, with defined procedures for the subsequent use or withdrawal of those funds under an agreement with the airline. Often, however, what communities refer to as a travel bank actually involves travel pledges from businesses in the community without any collection of funds or formal procedures for use of the funds. As with other types of in-kind contributions, the Department views travel banks and pledges included in grant applications as an indicator of local community support.

Cash vs. in-kind contributions. Communities that include local contributions made in cash will be viewed more favorably.

III. Evaluation and Selection Process

The Department will first review each application to determine whether it has satisfied the following eligibility requirements:

1. The applicant is an Eligible Applicant;

2. The application is for an Eligible Project (including compliance with the Same Project Limitation); and

3. The application is complete (including submission of a completed SF424 and all of the information listed in Contents of Application, in Section IV below).

To the extent that the Department determines that an application does not satisfy these eligibility requirements, the Department will deem that application ineligible and will not consider it further.

The Department will then review all eligible applications based on the selection criteria outlined above in Section II. Applications that meet one or more of the priority selection criteria will be viewed more favorably than those that do not meet any priority selection criteria.

Grant awards will be made as promptly as possible so that selected communities can complete the grant agreement process and implement their plans. Given the competitive nature of the grant process, the Department will not meet with applicants regarding their applications. All non-confidential portions of each application, all correspondence and ex-parte communications, and all orders will be posted in the above-captioned docket on www.regulations.gov.

The Department will announce its grant selections in a Selection Order that will be posted in the above-captioned docket, served on all applicants and all parties served with this Solicitation Order, and posted on the Department's SCASDP Web site at http://ostpxweb.dot.gov/aviation/X50%20Role_files/smallcommunity.htm.

IV. How to Apply

Required Steps

• Determine eligibility;

• Register with www.grants.gov (see Registration with www.grants.gov, below);

• Submit an Application for Federal Domestic Assistance (SF424);

• Submit a cover sheet including all required information (see Appendix B);

• Submit a completed “Summary Information” schedule (see Appendix C);

• Submit a detailed application of up to 25 pages (one-sided only, excluding the completed SF424, cover sheet, Summary Information schedule, and any letters from the community showing support for the application) that meets all required criteria (see Appendix D);

• Attach any letters from the community showing support for the application to the proposal, which should be addressed to Aloha Ley, Associate Director, Small Community Program; and

• Provide separate submission of confidential material, if requested. (see Appendix E)

Each application must be no longer than 25 one-sided pages (excluding the completed SF424, cover sheet, Summary Information schedule, and any letters from the community showing support for the application). DOT will not consider any information contained in pages beyond page 25 (excluding any letters of support).

An application will not be complete and will be deemed ineligible for a grant award until and unless all required materials, including SF424, have been submitted through www.grants.gov by 5 p.m. EDT on June 11, 2012.

Registration with www.grants.gov: Communities must be registered with www.grants.gov in order to submit an application for funds available under this program. For consortium applications, only the consortium must be registered with www.grants.gov in order to submit its application for funds available under this program. See Appendix A for additional information on applying through www.grants.gov.

Contents of Application: There is no set format that must be used for applications. Each application should, to the extent possible, address the selection criteria set forth in Section II, above, including a clear description of the air service needs/deficiencies and present plans/strategies that directly address those needs/deficiencies. At a minimum, however, each application must include the following information:

• A description of the community's air service needs or deficiencies, including information about: (1) Major origin/destination markets that are not now served or are not served adequately; (2) fare levels that the community deems relevant to consideration of its application, including market analyses or studies demonstrating an understanding of local air service needs; and (3) any air service development efforts over the past three years and the results of those efforts (including marketing and promotional efforts).

• A strategic plan for meeting those needs under the Small Community Program, including the community's specific project goal(s) and detailed plan for attaining such goal(s). Applicants are advised to obtain firm assurances from air carriers proposing to offer new air services if a grant is awarded. Plans should:

✓ For applications involving new or improved service, explain how the service will become self-sufficient.

✓ Fully and clearly outline the goals and objectives of the project. When an application is selected, these goals and objectives will be incorporated into the grant agreement and define its basic project scope. Once a grant agreement is signed, if an amendment is sought to allow for different activities or a different approach, the Department will consider whether the amendment sought is consistent with the project scope as set forth in the grant agreement. Amendments that would alter the scope will not be permitted.

✓ Include alternative or back-up strategies for achieving their desired goals and objectives. These strategies will be incorporated into the grant agreement.

• A detailed description of the funding necessary for implementation of the proposed project (including federal and non-federal contributions).

• An explanation of how the proposed project differs from any previous projects for which the community received SCASDP funds (see Same Project Limitation, above).

• Designation of a legal sponsor responsible for administering the proposed project. The legal sponsor of the proposed project must be a government entity. If the applicant is a public-private partnership, a public government member of the organization must be identified as the community's sponsor to receive project cost reimbursements. A community may designate only one government entity as the legal sponsor, even if it is applying as a consortium that consists of two or more local government entities. Private organizations may not be designated as the legal sponsor of a grant under the Small Community Program. The community has the responsibility to ensure that the recipient of any funding has the legal authority under state and local laws to carry out all aspects of the grant.

V. Air Service Development Zone Designation

As part of the Small Community Program, the Department may also designate one grant recipient as an Air Service Development Zone. The purpose of the designation is to provide communities interested in attracting business to the area surrounding the airport and/or developing land-use options for the area to work with the Department on means to achieve those goals. The Department will assist the designated community in establishing contacts with and obtaining advice and assistance from appropriate government agencies, including the Department of Commerce and other offices within the Department of Transportation, and in identifying other pertinent resources that may aid the community in its efforts to attract businesses and to formulate land-use options. However, the community receiving this designation will be responsible for developing, implementing, and managing activities related to the air service development zone initiative. Only communities that are interested in these objectives and have a plan to accomplish them should apply for this designation. There are no additional funds associated with this designation, and applying for this designation will provide no special benefit or priority to a community applying for a SCASDP grant.

Grant applicants interested in selection for the Air Service Development Zone designation must include in their applications a separate section, titled, Support for Air Service Development Zone Designation. The community should provide as detailed a plan as possible, including what goals it expects to achieve from the air service development zone designation and the types of activities on which it would like to work with the Department in achieving those goals. The community should also indicate whether further local government approvals are required in order to implement the proposed activities.

VI. Grant Administration

Grant Agreements: Communities awarded grants are required to execute a grant agreement with the Department before they begin to expend funds under the grant award. Applicants should not assume they have received a grant, nor should they obligate or expend local funds prior to receiving and fully executing a grant agreement with the Department. Expenditures made prior to the execution of a grant agreement, including costs associated with preparation of the grant application, will not be reimbursed. Moreover, there are numerous assurances that grant recipients must sign and honor when federal funds are awarded. All communities receiving a grant will be required to accept the responsibilities of these assurances and to execute such the assurances when they execute their grant agreements. Copies of assurances are available online at http://ostpxweb.dot.gov/aviation/X50%20Role_files/smallcommunity.htm, (click on “SCASDP Grant Assurances”).

Carrier Assurances for New Air Service: Applicants are advised to obtain firm assurances from air carriers proposing to offer new air service if a grant is awarded. The Department will grant an extension only when the community can provide strong evidence of a firm commitment on the part of an air carrier to deliver the desired service.

Payments: The Small Community Program is a reimbursable program; therefore, communities are required to make expenditures for project implementation under the program prior to seeking reimbursement from the Department. Project implementation costs are reimbursable from grant funds only for services or property delivered during the grant term. Reimbursement rates are calculated as a percentage of the total federal funds requested divided by the federal funds plus the local cash contribution (which is not refundable). The percentage is determined by: (SCASDP Grant Amount) ÷ (SCASDP Grant Amount + Local Cash Contribution + State Cash Contribution, if applicable). Payments/expenditures in forms other than cash (e.g. in-kind) are not reimbursable. For example, if a community requests $500,000 in federal funding and provides $100,000 in local contributions, the reimbursement rate would be 83.33 percent: ((500,000)/(500,000 + 100,000)) = 83.33.

Grantee Reports: Each grantee must submit quarterly reports on the progress made during the previous quarter in implementing its grant project. In addition, each community will be required to submit a final report on its project to the Department, and 10 percent of the grant funds will not be reimbursed to the community until such final report is received. Additional information on award administration for selected communities will be provided in the grant agreement.

Grant Amendments: Any amendment to a grant agreement must be approved by the Department. A grantee may wish to amend its agreement with the Department in the event of a change in circumstances after the date the agreement is executed. Typically, amendments involve an extension to the time period for completing the grant or a change in the types of activities authorized for reimbursement under the goals and objectives of the grant agreement. Grantees are cautioned, however, that the Department cannot authorize amendments that are incompatible with the scope of the agreement.

VII. Questions and Clarifications

For further information concerning this notice please contact Aloha Ley at Aloha.Ley@dot.gov or (202) 366-2347, or Brooke Chapman at Brooke.Chapman@dot.gov or (202) 366-0577. A TDD is available for individuals who are deaf or hard of hearing at (202) 366-3993. The Department may post answers to questions and other important clarifications in the above-captioned docket on www.regulations.gov and on the program Web site at http://ostpxweb.dot.gov/aviation/X-50%20Role_files/smallcommunity.htm.

This order is issued under authority delegated in 49 CFR 1.56a(f).

Accordingly,

1. Applications for funding under the Small Community Air Service Development Program should be submitted via www.grants.gov as an attachment to the SF424 by June 11, 2012; and

2. This order will be published in the Federal Register, posted on www.grants.gov, and served on the Conference of Mayors, the National League of Cities, the National Governors Association, the National Association of State Aviation Officials, County Executives of America, the American Association of Airport Executives, and the Airports Council International-North America.

Issued May 9, 2012.
By:
Robert A. Letteney,
Deputy Assistant Secretary for Aviation and International Affairs.

Appendix A

Additional Information on Applying Through www.grants.gov

Applications must be submitted through www.grants.gov. To apply for funding through www.grants.gov, applicants must be properly registered. Complete instructions on how to register and apply can be found at www.grants.gov. If applicants experience difficulties at any point during registration or application process, please call the www.grants.gov Customer Support Hotline at 1-800-518-4726, Monday-Friday from 7 a.m. to 9 p.m. EDT. Registering with www.grants.gov is a one-time process; however, processing delays may occur and it can take up to several weeks for first-time registrants to receive confirmation and a user password. It is highly recommended that applicants start the registration process as early as possible to prevent delays that may preclude submitting an application by the deadlines specified. Applications will not be accepted after June 11, 2012; delayed registration is not an acceptable reason for extensions.

In order to apply for SCASDP funding and to apply for funding through www.grants.gov, all applicants are required to complete the following:

1. Acquire a DUNS Number. A DUNS number is required for www.grants.gov registration. The Office of Management and Budget requires that all businesses and nonprofit applicants for federal funds include a DUNS (Data Universal Numbering System) number in their applications for a new award or renewal of an existing award. A DUNS number is a unique nine-digit sequence recognized as the universal standard for identifying and keeping track of entities receiving federal funds. The identifier is used for tracking purposes and to validate address and point of contact information for federal assistance applicants, recipients, and sub-recipients. The DUNS number will be used throughout the grant life cycle. Obtaining a DUNS number is a free, one-time activity. Obtain a DUNS number by calling 1-866 705-5711 or by applying online at http://fedgov.dnb.com/webform.

2. Acquire or Renew Registration with the Central Contractor Registration (CCR) Database. All applicants for federal financial assistance maintain current registrations in the Central Contractor Registration (CCR) database. An applicant must be registered in the CCR to successfully register in www.grants.gov. The CCR database is the repository for standard information about federal financial assistance applicants, recipients, and sub-recipients. Organizations that have previously submitted applications via www.grants.gov are already registered with CCR, as it is a requirement for www.grants.gov registration. Please note, however, that applicants must update or renew their CCR registration at least once per year to maintain an active status, so it is critical to check registration status well in advance of relevant application deadlines. Information about CCR registration procedures can be accessed at www.ccr.gov.

3. Acquire an Authorized Organization Representative (AOR) and a www.grants.gov Username and Password. Complete your AOR profile on www.grants.gov and create your username and password. You will need to use your organization's DUNS Number to complete this step. For more information about the registration process, go to www.grants.gov/applicants/get_registered.jsp.

4. Acquire Authorization for your AOR from the E-Business Point of Contact (E-Biz POC). The E-Biz POC at your organization must log in to www.grants.gov to confirm you as an AOR. Please note that there can be more than one AOR for your organization.

5. Search for the Funding Opportunity on www.grants.gov. Please use the following identifying information when searching for the SCASDP funding opportunity on www.grants.gov. The Catalog of Federal Domestic Assistance (CFDA) number for this solicitation is 20.930, titled Payments for Small Community Air Service Development.

6. Submit an Application Addressing All of the Requirements Outlined in this Funding Availability Announcement. Within 24-48 hours after submitting your electronic application, you should receive an email validation message from www.grants.gov. The validation message will tell you whether the application has been received and validated or rejected, with an explanation. You are urged to submit your application at least 72 hours prior to the due date of the application to allow time to receive the validation message and to correct any problems that may have caused a rejection notification.

Note: When uploading attachments please use generally accepted formats such as .pdf, .doc, and .xls. While you may imbed picture files such as .jpg, .gif, .bmp, in your files, please do not save and submit the attachment in these formats. Additionally, the following formats will not be accepted: .com, .bat, .exe, .vbs, .cfg, .dat, .db, .dbf, .dll, .ini, .log, .ora, .sys, and .zip.

Experiencing Unforeseen www.grants.gov Technical Issues

If you experience unforeseen www.grants.gov technical issues beyond your control that prevent you from submitting your application by 5 p.m. EDT on June 11, 2012, you must contact us at Brooke.Chapman@dot.gov or (202) 366-0577 within the 24 hours following the deadline and request approval to submit your application after the deadline has passed. At that time, DOT staff will require you to provide your DUNS number and your www.grants.gov Help Desk tracking number(s). After DOT staff review all of the information submitted and contact the www.grants.gov Help Desk to validate the technical issues you reported, DOT staff will contact you to either approve or deny your request to submit a late application through www.grants.gov. If the technical issues you reported cannot be validated, your application will be rejected as untimely. To ensure a fair competition for limited discretionary funds, the following conditions are not valid reasons to permit late submissions: (1) Failure to complete the registration process before the deadline date; (2) failure to follow www.grants.gov instructions on how to register and apply as posted on its Web site; (3) failure to follow all of the instructions in the funding availability notice; and (4) technical issues experienced with the applicant's computer or information technology (IT) environment.

Appendix B

Cover Sheet

The cover page for all applications should bear the title “Application Under the Small Community Air Service Development Program, Docket DOT-OST-2012-0069” and should include:

(1) The name of the community or consortium of communities applying for the grant;

(2) The legal sponsor and its Dun and Bradstreet (D&B) Data Universal Numbering System (DUNS) number, including + 4; Employee Identification Number (EIN) or Tax ID; and

(3) The 2-digit Congressional district code applicable to the sponsoring organization and, if a consortium, to each participating community.

BILLING CODE 4910-9X-P

BILLING CODE 4910-9X-C

Appendix E

Confidential Commercial Information

Applicants will be able to provide certain confidential business information relevant to their proposals on a confidential basis. Under the Department's Freedom of Information Act regulations (49 CFR 7.17), such information is limited to commercial or financial information that, if disclosed, would either likely cause substantial harm to the competitive position of a business or enterprise or make it more difficult for the Federal Government to obtain similar information in the future.

Applicants seeking confidential treatment of a portion of their applications must segregate the confidential material in a sealed envelope marked “Confidential Submission of X (the applicant) in Docket DOT-OST-2012-0069,” and include with that material a request in the form of a motion seeking confidential treatment of the material under 14 CFR 302.12 (Rule 12) of the Department's regulations. The applicant should submit an original and two copies of its motion and an original and two copies of the confidential material in the sealed envelope.

The confidential material should not be included with the original of the applicant's proposal that is submitted via www.grants.gov. The applicant's original submission, however, should indicate clearly where the confidential material would have been inserted. If an applicant invokes Rule 12, the confidential portion of its filing will be treated as confidential pending a final determination. All confidential material must be received by June 11, 2012, and delivered to the Office of Aviation Analysis, 8th Floor, Room W86-310, 1200 New Jersey Ave. SE., Washington, DC 20590.

A template for the confidential motion can be found at http://ostpxweb.dot.gov/aviation/X-50%20Role_files/smallcommunity.htm.

Applicants will be able to provide certain confidential business information relevant to their proposals on a confidential basis. Under the Department's Freedom of Information Act regulations (49 CFR 7.17), such information is limited to commercial or financial information that, if disclosed, would either likely cause substantial harm to the competitive position of a business or enterprise or make it more difficult for the Federal Government to obtain similar information in the future.

Applicants seeking confidential treatment of a portion of their applications must segregate the confidential material in a sealed envelope marked “Confidential Submission of X (the applicant) in Docket DOT-OST-2011-0119,” and include with that material a request in the form of a motion seeking confidential treatment of the material under 14 CFR 302.12 (Rule 12) of the Department's regulations. The applicant should submit an original and two copies of its motion and an original and two copies of the confidential material in the sealed envelope.

The confidential material should not be included with the original of the applicant's proposal that is submitted via www.grants.gov. The applicant's original submission, however, should indicate clearly where the confidential material would have been inserted. If an applicant invokes Rule 12, the confidential portion of its filing will be treated as confidential pending a final determination. All confidential material must be received by August 2, 2011, and delivered to the Office of Aviation Analysis, 8th Floor, Room W86-310, 1200 New Jersey Ave. SE., Washington, DC 20590.

A template for the confidential motion can be found at http://ostpxweb.dot.gov/aviation/X-50%20Role_files/smallcommunity.htm.

[FR Doc. 2012-11718 Filed 5-10-12; 4:15 pm]

BILLING CODE 4910-9X-P